DEPARTMENT OF HEALTH AND HUMAN SERVICES

Centers for Disease Control and Prevention

[30Day-09-07AB]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Measuring the Psychological Impact on Communities Affected by Landmines—New—National Center for Environmental Health (NCEH), Centers for Disease Control and Prevention (CDC).

Background and Brief Description

The purpose of this project is to conduct focus groups and an observational baseline survey that assesses the effectiveness of Humanitarian Mine Action (landmine and unexploded ordnance clearance, also known as de-mining) upon the economic, social and mental well being of impacted communities.

This work will be conducted by the Harvard Humanitarian Initiative, a center of Harvard University, under a cooperative agreement with CDC. The study will examine the impact that individuals and communities in these locations suffer when living in an area with landmines and unexploded ordnance (UXO). Individuals and communities also suffer from the lack of use of all land resources as well as the trauma of injured or killed family members.

This research on the impact of demining is necessary because landmines and UXO continue to negatively impact civilian populations. For example, it has been estimated that each year landmines and unexploded ordnance lead to the injury and death of 24,000 persons worldwide, predominately civilians. At the same time, it is estimated that civilians account for 35% to 65% of war-related deaths and injuries. The use of landmines and UXO is ongoing, and therefore this issue merits continued attention.

Up to this point, however, little if any of the international response to landmines has studied the economic, social, and mental impact upon a community. Instead the focus has been their physical impact in terms of numbers of injured and killed. There are no statistics nor is there research that can accurately capture these alternative measures of impact.

There now exists an opportunity for further research that will benefit the general public as well as the organizations and governments working with persons impacted by landmines and UXO. The proposed work will allow CDC to continue its commitment to reduce the negative health impact posed by landmines and unexploded ordnance, both for U.S. and non-U.S.-based populations. Approximately 1,264 respondents will come from the Lebanon area. The estimates of annualized burden hours for the household surveys and the focus groups are shown in the table below.

There are no costs to respondents except their time to participate in the survey. The total estimated annualized burden hours are 1,328.

Estimated Annualized Burden
Type of respondents | Number of respondents | Number of responses per respondent | Average burden per response (in hrs)
Household Survey—Cluster munitions | 600 | 1 | 1
Household Survey Control—Remote landmines | 600 | 1 | 1
Focus Group—Cluster munitions | 32 | 1 | 2
Focus Group Control—Remote landmines | 32 | 1 | 2

Dated: December 2, 2008.
Maryam I. Daneshvar,
Acting Reports Clearance Officer, Centers for Disease Control and Prevention.

[FR Doc. E8-29402 Filed 12-11-08; 8:45 am]

BILLING CODE 4163-18-P